DEPARTMENT OF COMMERCE

International Trade Administration

[A-580-807]

Polyethylene Terepthalate Film, Sheet, and Strip from the Republic of Korea: Amended Final Results of Antidumping Duty Changed Circumstances Review and Reinstatement of the Antidumping Duty Order

AGENCY: Import Administration, International Trade Administration, Department of Commerce.

EFFECTIVE DATE: May 8, 2008.

FOR FURTHER INFORMATION CONTACT: Michael J. Heaney or Robert James, AD/CVD Operations, Office 7, Import Administration, International Trade Administration, U.S. Department of Commerce, 14th Street and Constitution Avenue, NW, Washington, DC 20230; telephone: (202) 482-4475 and (202) 482-0649, respectively.

SUMMARY: On April 3, 2008, the Department of Commerce (the Department) published in the Federal Register the final results of the antidumping duty changed circumstances review and reinstatement of the antidumping order on polyethylene terephthalate film, sheet, and strip from Korea. The review covered a single firm, Kolon Industries, Inc. (Kolon) and the period July 1, 2005 to June 30, 2006. See Polyethylene Terephthalate Film, Sheet, and Strip from the Republic of Korea; Final Results of Antidumping Duty Changed Circumstances Review and Reinstatement of the Antidumping Duty Order, 73 FR 18259 (April 3, 2008) (Final Results). We are amending the Final Results to correct a ministerial error in the calculation of the cash deposit rate for Kolon pursuant to 19 CFR 351.224(e).

SUPPLEMENTARY INFORMATION: On April 7, 2008, the Department received from Kolon a timely allegation of a ministerial error pursuant to 19 CFR 351.224(c)(1). Kolon alleges an error in formatting product-specific control numbers. Kolon asserts the Department assigned a revised field of only 6 characters in length for the variable CONNUM2H in the home market comparison program while assigning a field length of 10 characters for the variable CONNUM2H in the margin program. Kolon argues that the effect of this error is to truncate some of the CONNUM2H values used for matching purposes in the final results. Petitioners did not comment on the alleged ministerial error.

Amended Final Results of Review

A ministerial error as defined in section 751(h) of the Tariff Act of 1930, as amended (the act) “includes errors in addition, subtraction, or other arithmetic function, clerical errors resulting from inaccurate copying, duplication, or the like, and any other type of unintentional error which the administering authority considers ministerial.” See also 19 CFR 351.224(f). After analyzing Kolon’s allegation, we have determined, in accordance with section 751(h) of the Act and 19 CFR 351.224(e), that the Department made a ministerial error in the final results by inadvertently setting the field length for CONNUM2H in the comparison market program to 6 characters rather than 10 characters. Therefore, we are amending the final results of this antidumping duty changed circumstances review of polyethylene terephthalate film, sheet, and strip from Korea. In these amended final results we have assigned a character length of 10 for the CONNUM2H variable used in the comparison market program. As a result of this correction, the weighted-average percentage margin for Kolon has changed from 1.53 percent to 1.52 percent. We will issue amended cash deposit instructions for these amended final results of this administrative review to U.S. Customs and Border Protection 15 days after publication of these amended final results. There are no changes to the rates applicable to any other companies under this antidumping order. See Final Results.

This notice is issued and published in accordance with sections 751(a)(1) and 777(i)(1) of the Tariff Act and 19 CFR 351.224(e).

Dated: May 01, 2008.
David M. Spooner,
Assistant Secretary for Import Administration.

[FR Doc. E8-10277 Filed 5-7-08; 8:45 am]

BILLING CODE 3510-DS-S